DEPARTMENT OF JUSTICE

[AAG/A Order No. 024-2007]

Privacy Act of 1974; System of Records

AGENCY: Office of the Pardon Attorney, Department of Justice.

ACTION: Modifications to Notice of Privacy Act System of Records.

SUMMARY: The Office of the Pardon Attorney (OPA) is making minor modifications to its Privacy Act System of Records entitled “Executive Clemency Case Files/Executive Clemency Tracking System, OPA-001,” last published in the Federal Register on October 31, 2002, at 67 FR 66417. Since the OPA has changed locations since its notice of 2002, the new address will be published in three sections of the notice under “System Location”, “System Manager(s) and Addresses”, and “Notification Procedures”.

DATES: Since this is a minor change, notification to the public, the Office of Management and Budget and the Congress is not required. The notice will be effective August 13, 2007.

SUPPLEMENTARY INFORMATION: The change in the text of the notice entitled “Executive Clemency Files/Executive Clemency Tracking System” is shown below.

Dated: August 2, 2007.
Lee J. Lofthus,
Assistant Attorney General for Administration.

Justice/OPA-001

System Name:

Executive Clemency Case Files/Executive Clemency Tracking System.

System Location:

Office of the Pardon Attorney (OPA), U.S. Department of Justice, 950 Pennsylvania Ave., NW., Washington, DC. 20530.

* * * * *

System Manager(S) and Addresses:

Pardon Attorney, Office of the Pardon Attorney, U.S. Department of Justice, 950 Pennsylvania Ave., NW., Washington, DC 20530.

Notification Procedure:

Address inquiries to Office of the Pardon Attorney, U.S. Department of Justice, 950 Pennsylvania Ave., NW., Washington, DC 20530.

* * * * *

[FR Doc. E7-15729 Filed 8-10-07; 8:45 am]

BILLING CODE 4410-29-P